DEPARTMENT OF ENERGY

Federal Energy Regulatory Commission

Combined Notice of Filings #1

Take notice that the Commission received the following electric corporate filings:

Docket Numbers: EC21-130-000.

Applicants: KCE NY 1, LLC.

Description: Application for Authorization Under Section 203 of the Federal Power Act of KCE NY 1, LLC.

Filed Date: 9/7/21.

Accession Number: 20210907-5213.

Comment Date: 5 p.m. ET 9/28/21.

Take notice that the Commission received the following electric rate filings:

Docket Numbers: ER20-1045-003.

Applicants: Tri-State Generation and Transmission Association, Inc.

Description: Compliance filing: Tri-State Compliance Filing to be effective 2/25/2020.

Filed Date: 9/8/21.

Accession Number: 20210908-5074.

Comment Date: 5 p.m. ET 9/29/21.

Docket Numbers: ER21-2532-000; ER21-2533-000.

Applicants: Bay Tree Lessee, LLC, Bay Tree Solar, LLC.

Description: Supplement to July 28, 2021 Bay Tree Solar, LLC, et al. tariff filing.

Filed Date: 9/7/21.

Accession Number: 20210907-5143.

Comment Date: 5 p.m. ET 9/17/21.

Docket Numbers: ER21-2847-000.

Applicants: Montague Solar, LLC.

Description: Baseline eTariff Filing: Application for Market-Based Rate Authorization, Request for Related Waivers to be effective 11/1/2021.

Filed Date: 9/7/21.

Accession Number: 20210907-5176.

Comment Date: 5 p.m. ET 9/28/21.

Docket Numbers: ER21-2848-000.

Applicants: Alabama Power Company.

Description: § 205(d) Rate Filing: Worth Solar LGIA Filing to be effective 8/24/2021.

Filed Date: 9/8/21.

Accession Number: 20210908-5067.

Comment Date: 5 p.m. ET 9/29/21.

Docket Numbers: ER21-2849-000.

Applicants: PJM Interconnection, L.L.C.

Description: § 205(d) Rate Filing: Original ISA, SA No. 6162; Queue No. AD1-083 to be effective 8/12/2021.

Filed Date: 9/8/21.

Accession Number: 20210908-5085.

Comment Date: 5 p.m. ET 9/29/21.

Docket Numbers: ER21-2850-000.

Applicants: ISO New England Inc.

Description: § 205(d) Rate Filing: Ministerial Filing to Conform Section III.1 Effective August 27, 2021 to be effective 8/27/2021.

Filed Date: 9/8/21.

Accession Number: 20210908-5087.

Comment Date: 5 p.m. ET 9/29/21.

Docket Numbers: ER21-2851-000.

Applicants: New York State Electric & Gas Corporation, New York Independent System Operator, Inc.

Description: § 205(d) Rate Filing: New York State Electric & Gas Corporation submits tariff filing per 35.13(a)(2)(iii): 205 joint EPCA among NYISO, NYSEG, Cassadaga, Arkwright and Ball Hill, SA2642 to be effective 8/25/2021.

Filed Date: 9/8/21.

Accession Number: 20210908-5088.

Comment Date: 5 p.m. ET 9/29/21.

Docket Numbers: ER21-2852-000.

Applicants: PJM Interconnection, L.L.C.

Description: § 205(d) Rate Filing: Amendment to ISA/CSA, SA Nos. 5499 and 5534; Queue No. AC1-105 to be effective 10/14/2019.

Filed Date: 9/8/21.

Accession Number: 20210908-5097.

Comment Date: 5 p.m. ET 9/29/21.

Docket Numbers: ER21-2853-000.

Applicants: California Independent System Operator Corporation.

Description: § 205(d) Rate Filing: 2021-09-08 Hybrid Resources and Co-located Resources to be effective 12/31/9998.

Filed Date: 9/8/21.

Accession Number: 20210908-5103.

Comment Date: 5 p.m. ET 9/29/21.

Docket Numbers: ER21-2854-000.

Applicants: California Independent System Operator Corporation.

Description: § 205(d) Rate Filing: 2021-09-08 Tariff Clarification of the Term Business Day to be effective 11/8/2021.

Filed Date: 9/8/21.

Accession Number: 20210908-5112.

Comment Date: 5 p.m. ET 9/29/21.

Docket Numbers: ER21-2855-000.

Applicants: Public Service Company of Colorado.

Description: § 205(d) Rate Filing: 2021-09-08 OATT-Att W-E&P-FormofSvcAgrmt-PSCo to be effective 11/28/2021.

Filed Date: 9/8/21.

Accession Number: 20210908-5115.

Comment Date: 5 p.m. ET 9/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2021.
Debbie-Anne A. Reese,
Deputy Secretary.

[FR Doc. 2021-19773 Filed 9-13-21; 8:45 am]

BILLING CODE 6717-01-P